DEPARTMENT OF ENERGY

Federal Energy Regulatory Commission

Combined Notice of Filings #1

Take notice that the Commission received the following electric rate filings:

Docket Numbers: ER16-1914-001.

Applicants: Patua Acquisition Company, LLC.

Description: Notice of Non-Material Change in Status of Patua Acquisition Company, LLC.

Filed Date: 7/17/17.

Accession Number: 20170717-5130.

Comments Due: 5 p.m. ET 8/7/17.

Docket Numbers: ER17-1636-003.

Applicants: Great River Hydro, LLC.

Description: Notice of Non-Material Change in Status of Great River Hydro, LLC.

Filed Date: 7/17/17.

Accession Number: 20170717-5124.

Comments Due: 5 p.m. ET 8/7/17.

Docket Numbers: ER17-2101-000.

Applicants: Deseret Generation & Transmission Co-operative, Inc.

Description: § 205(d) Rate Filing: OATT Attachment 7/8 Sec. 17.3 Amend. to be effective 9/15/2017.

Filed Date: 7/17/17.

Accession Number: 20170717-5041.

Comments Due: 5 p.m. ET 8/7/17.

Docket Numbers: ER17-2102-000.

Applicants: Midcontinent Independent System Operator, Inc., Union Electric Company.

Description: § 205(d) Rate Filing: 2017-07-17_SA 3032 Ameren-City of Hannibal Construction Agreement to be effective 6/29/2017.

Filed Date: 7/17/17.

Accession Number: 20170717-5051.

Comments Due: 5 p.m. ET 8/7/17.

Docket Numbers: ER17-2103-000.

Applicants: Midcontinent Independent System Operator, Inc., MidAmerican Energy Company, ITC Midwest LLC.

Description: § 205(d) Rate Filing: 2017-07-17_SA 3031_MEC-ITCM Hills-Montezuma FCA to be effective 9/16/2017.

Filed Date: 7/17/17.

Accession Number: 20170717-5077.

Comments Due: 5 p.m. ET 8/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2017.
Nathaniel J. Davis, Sr.,
Deputy Secretary.

[FR Doc. 2017-15426 Filed 7-21-17; 8:45 am]

BILLING CODE 6717-01-P